DEPARTMENT OF THE INTERIOR

Bureau of Land Management

[LLNVB00000 L71220000.EX0000 LVTFF0986020 241A.00; MO#4500011839; 10-08807; TAS: 14X8069]

Notice of Intent To Prepare a Supplemental Environmental Impact Statement for the Cortez Hills Expansion Project, Lander County, NV

AGENCY: Bureau of Land Management, Interior.

ACTION: Notice of intent.

SUMMARY: In compliance with the National Environmental Policy Act of 1969 (NEPA), as amended, and the Federal Land Policy and Management Act of 1976, as amended, the Bureau of Land Management (BLM), Battle Mountain District, Mount Lewis Field Office, Battle Mountain, Nevada, intends to prepare a Supplemental Environmental Impact Statement (EIS) for the Cortez Hills Expansion Project in Lander County, Nevada.

DATES: This notice initiates the NEPA process for the Supplemental EIS. We will provide opportunities for public participation upon publication of the Draft Supplemental EIS.

ADDRESSES: Background information, print and electronic copies of the 2008 Final EIS for the Cortez Hills Expansion Project are available at the BLM Battle Mountain District Office, 50 Bastian Road, Battle Mountain, Nevada, during regular business hours of 7:30 a.m. to 4:30 p.m., Monday through Friday, except holidays. Copies of the 2008 Final EIS are also available at the following Web site: http://www.blm.gov/nv/battlemountain.

FOR FURTHER INFORMATION CONTACT: For further information and/or to have your name added to our mailing list, contact Christopher Worthington, (775) 635-4000, or e-mail: Christopher_Worthington@blm.gov.

SUPPLEMENTARY INFORMATION: The BLM signed a Record of Decision on November 12, 2008, for the Cortez Gold Mines (CGM) Cortez Hills Expansion Project, which is an expansion of existing open-pit gold mining and processing operations in northeastern Nevada. The project entails new surface disturbance of approximately 6,633 acres, including 6,412 acres of public land administered by the BLM Battle Mountain District and 221 acres of private land owned by CGM. The Notice of Availability of the Final Cortez Hills Expansion Project Environmental Impact Statement, Nevada was published in the Federal Register on Oct. 3, 2008.

On December 3, 2009, the United States Court of Appeals for the Ninth Circuit partially reversed the lower court's denial of preliminary injunctive relief with respect to BLM's environmental analysis of air quality and water resource issues. The BLM subsequently elected to prepare a Supplemental EIS to refine the analysis of potential air quality effects and the dewatering mitigation effectiveness for the Cortez Hills Expansion Project.

Authority: 40 CFR 1501.7.

Gerald M. Smith,
District Manager, Battle Mountain.

[FR Doc. 2010-17420 Filed 7-15-10; 8:45 am]

BILLING CODE 4310-HC-P